COMMODITY FUTURES TRADING COMMISSION

Agency Information Collection Activities Under OMB Review

AGENCY: Commodity Futures Trading Commission.

ACTION: Notice of intent to renew.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments (if any).

DATES: Comments must be submitted on or before April 4, 2012.

ADDRESSES: Send comments regarding the burden estimated or any other aspect of the information collection, including suggestions for reducing the burden, to the addresses below. Please refer to OMB Control No. 3038-0021 in any correspondence.

Martin B. White, Office of the General Counsel, Commodity Futures Trading Commission, 1155 21st Street NW., Washington, DC 20581;

and

Office of Information and Regulatory Affairs, Office of Management and Budget, Attention: Desk Officer for CFTC, 725 17th Street Washington, DC 20503.

Comments may also be submitted by any of the following methods:

The agency's Web site, at http://comments.cftc.gov. Follow the instructions for submitting comments through the Web site.

Mail: David A. Stawick, Secretary of the Commission, Commodity Futures Trading Commission, Three Lafayette Centre, 1155 21st Street NW., Washington, DC 20581.

Hand Delivery/Courier: Same as mail above.

Federal eRulemaking Portal: http://www.regulations.gov. Follow the instructions for submitting comments.

Please submit your comments using only one method and identity that it is for the renewal of 3038-0021.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations. See 17 CFR 145.9.

FOR FURTHER INFORMATION CONTACT: Martin B. White, Office of the General Counsel, Commodity Futures Trading Commission, 1155 21st Street NW., Washington, DC 20581, (202) 418-5129; Fax: (202) 418-5567; email: mwhite@cftc.gov and refer to OMB Control No. 3038-0021.

SUPPLEMENTARY INFORMATION:

Title: Regulations Governing Bankruptcies of Commodity Brokers (OMB Control No. 3038-0021). This is a request for extension of a currently approved information collection.

Abstract: This collection of information involves recordkeeping and notice requirements in the CFTC's bankruptcy rules for commodity broker liquidations, 17 CFR Part 190. These requirements are intended to facilitate the effective, efficient, and fair conduct of liquidation proceedings for commodity brokers and to protect the interests of customers in these proceedings.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on December 29, 2012 (73 FR 81916).

Burden statement: Commodity broker liquidations occur at unpredictable and irregular intervals; for purposes of estimating information collection burden this notice assumes an average of one commodity broker liquidation every three years. The CFTC further notes that the information collection burden will vary in particular commodity broker liquidations depending on the size of the commodity broker, the extent to which accounts are able to be quickly transferred, and other factors specific to the circumstances of the liquidation. The Commission estimates the average burden of this collection of information as follows:

Rule 190.02(a)(1)

Estimated Respondents or Recordkeepers per Year: .33.

Estimated Reports Annually per Respondent or Recordkeeper: 2.

Estimated Hours per Response: .5.

Estimated Total Hours per Year: .33.

Rule 190.02(a)(2)

Estimated Respondents or Recordkeepers per Year: .33.

Estimated Reports Annually per Respondent or Recordkeeper: 1.

Estimated Hours per Response: 2.

Estimated Total Hours per Year: .67.

Rule 190.02(b)(1)

Estimated Respondents or Recordkeepers per Year: .33.

Estimated Reports Annually per Respondent or Recordkeeper: 4.

Estimated Hours per Response: 1.

Estimated Total Hours per Year: 1.32.

Rule 190.02(b)(2)

Estimated Respondents or Recordkeepers per Year: .33.

Estimated Reports Annually per Respondent or Recordkeeper: 10,000.

Estimated Hours per Response: .1.

Estimated Total Hours per Year: 330.

Rule 190.02(b)(3)

Estimated Respondents or Recordkeepers per Year: .05 (rarely if ever occurs).

Estimated Reports Annually per Respondent or Recordkeeper: 10,000.

Estimated Hours per Response: .2.

Estimated Total Hours per Year: 100.

Rule 190.02(b)(4)

Estimated Respondents or Recordkeepers per Year: .33.

Estimated Reports Annually per Respondent or Recordkeeper: 10,000.

Estimated Hours per Response: .2.

Estimated Total Hours per Year: 660.

Rule 190.02(c)

Estimated Respondents or Recordkeepers per Year: .33.

Estimated Reports Annually per Respondent or Recordkeeper: 10.

Estimated Hours per Response: 10.

Estimated Total Hours per Year: 33.

Rule 190.03(a)(1)

Estimated Respondents or Recordkeepers per Year: .33.

Estimated Reports Annually per Respondent or Recordkeeper: 20,000.

Estimated Hours per Response: .01.

Estimated Total Hours per Year: 66.

Rule 190.03(a)(2)

Estimated Respondents or Recordkeepers per Year: .33.

Estimated Reports Annually per Respondent or Recordkeeper: 20,000.

Estimated Hours per Response: .02.

Estimated Total Hours per Year: 132.

Rule 190.04(b)

Estimated Respondents or Recordkeepers per Year: .33.

Estimated Reports Annually per Respondent or Recordkeeper: 40,000.

Estimated Hours per Response: .01.

Estimated Total Hours per Year: 132.

Rule 190.06(b)

Estimated Respondents or Recordkeepers per Year: .33.

Estimated Reports Annually per Respondent or Recordkeeper: 1.

Estimated Hours per Response: 1.

Estimated Total Hours per Year: .33.

Rule 190.06(d)

Estimated Respondents or Recordkeepers per Year: 125.

Estimated Reports Annually per Respondent or Recordkeeper: 1000.

Estimated Hours per Response: .05.

Estimated Total Hours per Year: 6250.

Rule 190.10(c)

Estimated Respondents or Recordkeepers per Year: 125.

Estimated Reports Annually per Respondent or Recordkeeper: 1000.

Estimated Hours per Response: .05.

Estimated Total Hours per Year: 6250.

There are estimated to be no capital costs or operating and maintenance costs associated with this collection.

Dated February 28, 2012.
David A. Stawick,
Secretary of the Commission.

[FR Doc. 2012-5222 Filed 3-2-12; 8:45 am]

BILLING CODE 6351-01-P